DEPARTMENT OF ENERGY

Federal Energy Regulatory Commission

[Docket No. RD16-2-000]

Proposed Agency Information Collection

AGENCY: Federal Energy Regulatory Commission, Energy.

ACTION: Notice and request for comments.

SUMMARY: The Federal Energy Regulatory Commission (Commission) invites public comment in Docket No. RD16-2-000 on a proposed change to collections of information (FERC-725P and FERC-725P1) that the Commission is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 7, 2016.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The Commission will submit the reporting and recordkeeping requirements of Reliability Standard PRC-005-6 to OMB for review. Reliability Standard PRC-005-6 replaces or supplements requirements from previous versions of the PRC-005 Reliability Standard, which are approved under FERC-725P (Mandatory Reliability Standards: Reliability Standard PRC-005-3, OMB Control No. 1902-0269) and FERC-725P1 (Mandatory Reliability Standards, PRC-005-4 Reliability Standard, OMB Control No. 1902-0280). The requirements and associated burden of Reliability Standard PRC-005-6 will be included in FERC-725P1.¹

¹ In the future, to consolidate reporting requirements associated with the PRC Standards, the Commission plans to transfer the burden associated with Reliability Standard PRC-005-6 to FERC-725G (OMB Control No. 1902-0252) and removed from FERC-725P and FERC-725P1.

Type of Request: Three-year extension of the FERC-725P1 information collection requirements with the stated changes to the current reporting and record retention requirements, and reduction to the requirements of FERC-725P.

Abstract: The Commission requires the information collected by the FERC-725P1 to implement the statutory provisions of section 215 of the Federal Power Act (FPA).² On August 8, 2005, Congress enacted into law the Electricity Modernization Act of 2005, which is Title XII, Subtitle A, of the Energy Policy Act of 2005 (EPAct 2005).³ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.⁴

² 16 U.S.C. 824o (2012).

³ Energy Policy Act of 2005, Public Law 109-58, Title XII, Subtitle A, 119 Stat. 594, 941 (codified at 16 U.S.C. 824o).

⁴ 16 U.S.C. 824o(e)(3).

On February 3, 2006, the Commission issued Order No. 672, implementing section 215 of the FPA.⁵ Pursuant to Order No. 672, the Commission certified one organization, North American Electric Reliability Corporation (NERC), as the ERO.⁶ The Reliability Standards developed by the ERO and approved by the Commission apply to users, owners and operators of the Bulk-Power System as set forth in each Reliability Standard.

⁵ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁶ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

On November 13, 2015, the North American Electric Reliability Corporation (NERC) filed a petition for Commission approval of proposed Reliability Standard PRC-005-6 (Protection System, Automatic Reclosing, and Sudden Pressure Relaying Maintenance). NERC also requested approval of the proposed implementation plan for PRC-005-6, and the retirement of previous versions of Reliability Standard PRC-005. NERC explained in its petition that Reliability Standard PRC-005-6 represents an improvement upon the most recently-approved version of the standard, PRC-005-4.⁷ FERC approved the proposed Reliability Standard PRC-005-6 on December 18, 2015.⁸

⁷ As noted in NERC's petition, NERC filed a separate motion to delay implementation of the approved, but not yet effective, versions of the PRC-005 Reliability Standard in Docket Nos. RM14-8-000 (PRC-005-3), RD15-3-000 (PRC-005-3(i)), and RM15-9-000 (PRC-005-4) until after the Commission issues an order or rule regarding proposed PRC-005-6. NERC's motion was granted in a delegated letter order issued December 4, 2015. See North American Elec. Reliability Corp., Docket Nos. RM14-8-000 et al. (Dec. 4, 2015) (delegated letter order).

⁸ The Delegated Letter Order is available in FERC's eLibrary at http://elibrary.ferc.gov/idmws/common/opennat.asp?fileID=14076238.

Type of Respondents: Transmission Owners (TO), Generator Owners (GO), and Distribution Providers.

Estimate of Annual Burden.⁹ Estimates for the changes to burden and cost due to Docket No. RD16-2-000 follow.

⁹ The Commission defines burden as the total time, effort, or financial resources expended by persons to generate, maintain, retain, or disclose or provide information to or for a federal agency. 5 CFR 1320.3 (2014) (explaining what is included in the information collection burden).

Changes Made in RD16-2-000
Reliability standard | Number of respondents | Annual number of responses per respondent | Total number of responses | Average burden and cost per response | Total annual burden (hours) and cost | Total annual cost per respondent
| (1) | (2) | (1) * (2) = (3) | (4) | (3) * (4) = (5) | ($)
FERC-725P (Reduction due to Replacement of PRC-005-3) 10 11
One-time review of existing plant and substation sites to determine which ones fall under PRC-005-3 | ¹² 937 | −1 | −937 | 2 hrs.; $146 | −1,874 hrs.; −$136,802 | −146.00
One-time review and adjustment of existing program | ¹³ 288 | −1 | −288 | 8 hrs.; $584 | −2,304 hrs.; −$168,192 | −584.00
Total Reduction to FERC-725P |  |  | −1,225 |  | −4,178 hrs.; −$304,994
FERC-725P1
Replacement of PRC-005-4 14 15—One-time review of sudden pressure relay maintenance program and adjustment (Burden Reduction) | 1,287 | −1 | −1,287 | 8 hrs.; $522.72 | −10,296 hrs.; −$672,740.64 | −522.72
Implementation of PRC-005-6—One-time review of existing plant and substation sites to determine which ones fall under PRC-005-6 (Burden Increase) | ¹⁶ 937 | 1 | 937 | 2 hrs.; $145 | 1,874 hrs.; $135,397 | 144.50
Implementation of PRC-005-6—One-time review and adjustment of existing program for reclosing relays and associated equipment (Burden Increase) | 288 | 1 | 288 | 8.5 hrs.; $614 | 2,448 hrs.; $176,868 | 614.00
Implementation of PRC-005-6—One-time review and adjustment of existing program for sudden pressure relays (Burden Increase) | 1,287 | 1 | 1,287 | 8 hrs.; $531.60 | 10,296 hrs.; $684,169.20 | 531.60
Total Net Increase to FERC-725P1 |  |  | 2,512 |  | 4,332 hrs.; $323,693.56 |
Total Net Change, due to RD16-2 |  |  | 0 |  | 144 hrs.; $18,699 |

¹⁰ The estimates for cost per response are derived using the following formula: Average Burden Hours per Response * $73 per Hour = Average Cost per Response. The hourly cost figure comes from the average of the salary plus benefits for a manager and an engineer (rounded to the nearest dollar). The figures are taken from the Bureau of Labor Statistics at (http://bls.gov/oes/current/naics3_221000.htm).

¹¹ Implemented in Docket RM14-8.

¹² This figure reflects the generator owners and transmission owners identified in the NERC Compliance Registry as of May 28, 2014.

¹³ This figure is a subset of GOs and TOs, as discussed in Order 803 (Docket No. RM14-8), P 41.

¹⁴ Implemented in Docket RM15-9.

¹⁵ The estimates for cost per response are derived using the following formula: Average Burden Hours per Response * $65.34 per Hour = Average Cost per Response. The hourly cost figure comes from the average of the salary plus benefits for an engineer (rounded to the nearest dollar). The figures are taken from the Bureau of Labor Statistics at (http://bls.gov/oes/current/naics3_221000.htm).

¹⁶ This figure reflects the generator owners and transmission owners identified in the NERC Compliance Registry as of May 28, 2014.

Dated: December 29, 2015.
Nathaniel J. Davis, Sr.,
Deputy Secretary.

[FR Doc. 2015-33125 Filed 1-4-16; 8:45 am]

BILLING CODE 6717-01-P